DEPARTMENT OF ENERGY

Energy Information Administration

Agency Information Collection Activities: Proposed Collection; Comment Request

AGENCY: U.S. Energy Information Administration (EIA), Department of Energy (DOE).

ACTION: Agency Information Collection Activities: Proposed Collection; Comment Request.

SUMMARY: The EIA is soliciting comments on the proposed new Form EIA-111, “Quarterly Electricity Imports and Exports Report.” This new form would supersede the existing Form OE-781R, “Monthly Electricity Imports and Exports Report”. The Form OE-781R is currently suspended and would be terminated with the implementation of the proposed Form EIA-111.

DATES: Comments must be filed by October 11, 2011. If you anticipate difficulty in submitting comments within that period, contact the person listed below as soon as possible.

ADDRESSES: Send comments to Michelle Bowles. To ensure receipt of the comments by the due date, e-mail (eia-111@eia.gov) is recommended. The mailing address is the U.S. Department of Energy, U.S. Energy Information Administration, Mail Stop: EI-23 (Form EIA-111), 1000 Independence Avenue, SW., Washington, DC 20585. Alternatively, Ms. Bowles may be contacted by telephone at 202-586-2430 or via fax at (202) 287-1960.

FOR FURTHER INFORMATION CONTACT: Requests for additional information or copies of any forms and instructions (the draft proposed collection) should be directed to Michelle Bowles at the address listed above. Forms and instructions are also available on the Internet at: http://beta.eia.gov/survey/form-eia111/proposed.pdf.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

The collected information will be kept in public electronic files available on EIA's Web site (http://www.eia.gov). Monthly and annual tabulations of these data may be used by the U.S. Energy Information Administration in the publications: Annual Energy Outlook, Annual Energy Review, Electric Power Annual, Electric Power Monthly, and Monthly Energy Review.

The existing survey of electricity imports and exports (OE-781R) was designed to reflect significant changes in the electricity industry, such as the restructuring of wholesale electricity markets and transmission by the Federal Energy Regulatory Commission (FERC); the entry of a large number of independent marketers into those markets; and the regulatory requirement that entities in the electric power industry keep information on transmission service separate from their information on marketing. All of this reduced the usefulness of an earlier version of the survey form.

However, experience with the current collection instrument since it began in July 2010 has shown that the form is overly complex and confusing. It is not providing the type and quality of information expected or required. We also find that some of the information currently collected is not justifiable considering EIA's current budget.

The following is additional information about the energy information collection to be submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; (8) estimate number of respondents; and (9) an estimate of the total annual reporting burden in hours (i.e., the estimated number of likely respondents times the proposed frequency of response per year times the average hours per response); (10) an estimate of the total annual reporting and recordkeeping cost burden (in thousands of dollars).

1. Form EIA-111, Quarterly Electricity Imports and Exports Report.

2. U.S. Energy Information Administration.

3. OMB Number 1905-NEW.

4. Three-year approval.

5. Mandatory.

6. Form EIA-111 collects U.S. electricity import and export data. The data are used to get an accurate measure of the flow of electricity into and out of the United States. The import and export data are reported by U.S. purchasers, sellers and transmitters of wholesale electricity, including persons authorized by Order to export electric energy from the United States to foreign countries, persons authorized by Presidential Permit to construct, operate, maintain, or connect electric power transmission lines that cross the U.S. international border, and U.S. Balancing Authorities that are directly interconnected with foreign Balancing Authorities. Such entities are to report monthly flows of electric energy received or delivered across the border, the cost associated with the transactions, and actual and implemented interchange. The data collected on this form may appear in various EIA publications.

7. Business or other for-profit; State, local or Tribal government; Federal government.

8. 173 responses per quarter, for a total of 692 responses annually.

9. Annual total of 4,152 hours.

10. Annual total of $0.

II. Current Actions

The EIA is soliciting comments on the proposed Form EIA-111, “Quarterly Electricity Imports and Exports Report.” This survey will replace the existing Form OE-781R. Pending authorization to administer the revised form, EIA has suspended the current collection of the OE-781R. Upon receiving authorization to administer the revised form, EIA will terminate the OE-781R and begin operation of the new survey. EIA intends to retroactively collect the core import and export data for the period of the suspension.

The following changes are proposed:

The form would continue to collect data on monthly activity, but respondents would file the form quarterly. Quarterly data would be filed within 30 days of the end of the reporting quarter, e.g., first quarter data would be due no later than April 30. (The existing form collects monthly information each month.)

The current Form OE-781R is mandatory for persons issued orders authorizing them to export electricity from the United States to foreign countries and by owners and operators of international electricity transmission lines authorized by Presidential permit or treaty. The form further asks respondents to categorize themselves as one or more the following: Purchasing and Selling Entity, Transmission System Operator, Transmission Owner, or Treaty Entity.

Currently, only Purchasing and Selling Entities that have been issued orders authorizing them to export electricity from the United States to foreign countries are required to complete the form. This means that information on imports made by Purchasing and Selling Entities without Export Authorizations is not being reported. To ensure reporting of all electricity imports into the U.S., in the new Form EIA-111 we propose to expand mandatory reporting to all Purchasing and Selling Entities that import electricity in to the U.S.

In the new Form EIA-111 we propose to replace the Transmission System Operator category with U.S. Balancing Authorities that are directly interconnected with foreign electricity systems. There are seven such Balancing Authorities: ERCOT, CAISO, Bonneville Power Administration, WAPA Upper Great Plains East, MISO, NYISO, and ISO-NE.

This change is proposed because under the NERC Functional Model (from which three of the current form's respondent categories are derived), Transmission System Operators do not perform the functions necessary for them to provide the required information. In contrast, U.S. border Balancing Authorities are the appropriate entities to report cross-border actual and implemented interchange. Interchange is any energy transfer that crosses Balancing Authority boundaries. Actual Interchange means the metered value electricity that flows from one balancing authority area to another. Implemented Interchange is the interchange values that the Balancing Authority enters into its Area Control Error equation, i.e., uses to balance supply and demand of its electric system.

A number of entities could report implemented interchange provided on the interchange scheduling e-tags. Border Balancing Authorities are a convenient provider of this information since they would already be providing actual interchange on the same schedule. Under FERC-approved mandatory reliability standards, Balancing Authorities receive e-tag information from the interchange coordinator when the transmission path is through their system.

We propose to drop the transmission owner respondent category as it is no longer necessary.

The existing survey breakdown of the quantity and value of imports and exports into cost-of-service and market rates would be dropped. The breakdown of volume by fuel source would be dropped. Questions covering the total cost of ancillary service along with a general identification of the type of ancillary services would be dropped.

For each import transaction, the foreign source balancing authority name, the U.S. sink balancing authority name, the presidential permit number or transmission service provider name would be required. On the new Form EIA-111 the type of service is categorized as firm, non-firm, exchange, or other. Payments are broken down into energy revenues, other revenues and total revenues.

For each export transaction, the DOE export authorization number, U.S. source balancing authority name, the foreign sink balancing authority name, the presidential permit number or transmission service provider name would be required. On the new Form EIA-111 the type of service is categorized as firm, non-firm, exchange, or other. Payments are broken down into energy payments, other payments, and total payments.

U.S. border balancing authorities would report actual interchange received from and delivered to directly interconnected foreign border balancing authorities. Instead of scheduled imports and exports reported by transmission operators, U.S. border balancing authorities would report implemented interchange (the current industry term) when the transmission path is through their system, for each combination of source and sink balancing authorities.

Reporting of the characteristics of transmission operations would be replaced by quarterly reporting of events that exceed DOE order terms. Presidential permit and DOE export authorization holders would report their order number, the date and hour(s) of the exceeded event and the specific order term exceeded.

Reporting of existing and proposed transmission facilities crossing the border would be dropped.

III. Request for Comments

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 6 hours per quarter for each respondent. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, codified at 15 U.S.C. 772(b).

Issued in Washington, DC on August 3, 2011.
Stephanie Brown,
Director, Office of Survey Development and Statistical Integration, U. S. Energy Information Administration.

[FR Doc. 2011-20401 Filed 8-10-11; 8:45 am]

BILLING CODE 6450-01-P